DEPARTMENT OF HEALTH AND HUMAN SERVICES

Meeting by Teleconference of the Secretary's Advisory Committee on Regulatory Reform

AGENCY: Office of the Assistant Secretary for Planning and Evaluation, Department of Health and Human Services.

ACTION: Notice of teleconference.

SUMMARY: This notice announces a teleconference meeting open to the public to be held by the Department of Health and Human Services (HHS) Secretary's Advisory Committee on Regulatory Reform. As governed by the Federal Advisory Committee Act in accordance with section 10(a)(2), the Secretary's Advisory Committee on Regulatory Reform will advise and make recommendations for changes that would be beneficial in four broad areas: health care delivery, health systems operations, biomedical and health research, and the development of pharmaceuticals and other products. The Committee will review and advise on changes identified through regional public hearings, written comments from the public, and consultation with HHS staff.

All meetings and hearings of the Committee are open to the general public. The teleconference agenda will allow some time for public comment. Additional information on the agenda and meeting materials will be posted on the Committee's Web site prior to the telemeeting (http://www.regreform.hhs.gov).

DATES: The teleconference will be held on Monday, September 9, 2002, from 12:00 pm to 3:00 pm Eastern Daylight Time.

Telephone Number: Members of the public who wish to attend via telephone should dial (877) 381-6315 and provide conference ID 5382888. TTY for the hearing impaired can be accessed by dialing 711. Attendance on the call may be limited by the number of telephone lines available. To ensure that we can accommodate members of the public, individuals are encouraged, but not required, to notify HHS staff in advance of the meeting if they are planning to attend via telephone by sending an e-mail to vineeta.jain@hhs.gov or fax to (202) 401-5159 with the following information: Name, organization, phone number, fax number, and e-mail address. Individuals who wish to provide public comment during the teleconference will be provided instructions when they call.

ADDRESSES: Members of the public are also invited to the following location to attend the teleconference: Room 800, Hubert H. Humphrey Building, 200 Independence Avenue, SW., Washington, DC 20201. To comply with security requirements, individuals who do not possess a valid Federal identification must present a picture identification, e.g., driver's license or passport upon entry to the Humphrey Building.

FOR FURTHER INFORMATION CONTACT: Margaret P. Sparr, Executive Coordinator, Secretary's Advisory Committee on Regulatory Reform, Office of the Assistant Secretary for Planning and Evaluation, 200 Independence Avenue, SW., Room 344G, Washington, DC 20201, (202) 401-5182.

SUPPLEMENTARY INFORMATION: Anyone planning to attend the teleconference by coming to the Hubert H. Humphrey Building and who requires special disability-related arrangements such as sign-language intepretation should provide notice of their need by Tuesday, September 3, 2002. Please make any request to Ms. Vineeta Jain—phone: (202) 401-5182; fax: (202) 401-5159; e-mail: vineeta.jain@hhs.gov.

On June 8, 2001, HHS Secretary Thompson announced a Department-wide initiative to reduce regulatory burdens in health care, to improve patient care, and to respond to the concerns of health care providers and industry, State and local Governments, and individual Americans who are affected by HHS rules. Common sense approaches and careful balancing of needs can help improve patient care. As part of this initiative, the Department established the Secretary's Advisory Committee on Regulatory Reform to provide findings and recommendations regarding potential regulatory changes. These changes would enable HHS programs to reduce burdens and costs associated with departmental regulations and paperwork, while at the same time maintaining or enhancing the effectiveness, efficiency, impact, and access of HHS programs.

Dated: August 21, 2002.
Margaret P. Sparr,
Executive Coordinator, Secretary's Advisory Committee on Regulatory Reform.

[FR Doc. 02-21726 Filed 8-26-02; 8:45 am]

BILLING CODE 4151-05-P